DEPARTMENT OF HEALTH AND HUMAN SERVICES

Centers for Medicare & Medicaid Services

[Document Identifier: CMS-10133, CMS-10050, and CMS-1515 and 1572]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Competitive Acquisition Program (CAP) for Medicare Part B Drugs: Vendor Application and Bid Form; Use: The CAP Vendor Application and Bid Form is a collection tool which will be used by potential vendors to provide information related to the characteristics of their company and to submit their bid prices for CAP drugs. The information collected on the CAP Vendor Application and Bid Form will be used by CMS during the bidding evaluation process to evaluate the vendors bid prices, their credentials, experience and to assess their ability to provide quality service to physicians and beneficiaries. Competitive bidding is seen as a means of using the dynamics of the marketplace to provide incentives for suppliers to provide reasonably priced products and services of high quality in an efficient manner. The CAP's objectives include providing an alternative method for physicians to obtain Part B drugs to administer to Medicare beneficiaries and reducing drug acquisition and billing burdens for physicians; Form Number: CMS-10133 (OMB#: 0938-0955); Frequency: Reporting-Other, during the bidding process; Affected Public: Business or other for-profit; Number of Respondents: 12; Total Annual Responses: 12; Total Annual Hours: 480.

2. Type of Information Collection Request: Extension of a currently approved collection; Title of Information Collection: Survey of Newly Eligible Medicare Beneficiaries; Use: CMS is responsible for providing beneficiaries with the Medicare program information they need to effectively choose the health care plan best suited to their needs. In order to provide such information, CMS needs to know (1) whether or not new enrollees are aware of the choices they have, (2) what beneficiaries understand about the basic elements of the Medicare program, (3) what other sources currently provide Medicare-related information, and (4) how all of these items vary across beneficiary subpopulations. To this end, CMS must have the ability to measure over time what beneficiaries know and understand about the Medicare program. Measuring beneficiaries' information needs and knowledge over time will help CMS evaluate its impact on information/education, population changes and other initiatives. Form Number: CMS-10050 (OMB#: 0938-0869); Frequency: Reporting—Quarterly; Affected Public: Individuals or Households; Number of Respondents: 2400; Total Annual Responses: 2400; Total Annual Hours: 800.

3. Type of Information Collection Request: Extension of a currently approved collection; Title of Information Collection: Home Health Agency Survey and Deficiencies Report, Home Health Functional Assessment Instrument and Supporting Regulations in 42 CFR 488.26 and 442.30; Use: In order to participate in the Medicare program as a Home Health Agency (HHA) provider, the HHA must meet Federal Standards. These forms are used to record information about patients' health and provider compliance with requirement and report information to the Federal Government. Form Number: CMS-1515 & 1572 (OMB#: 0938-0355); Frequency: Reporting—Annually; Affected Public: Business or other for-profit, Individuals or Households, and Not-for-profit institutions; Number of Respondents: 24,150; Total Annual Responses: 24,150; Total Annual Hours: 3,864.

To obtain copies of the supporting statement and any related forms for the proposed paperwork collections referenced above, access CMS Web site address at http://www.cms.hhs.gov/PaperworkReductionActof1995, or e-mail your request, including your address, phone number, OMB number, and CMS document identifier, to Paperwork@cms.hhs.gov, or call the Reports Clearance Office on (410) 786-1326.

Written comments and recommendations for the proposed information collections must be mailed or faxed within 30 days of this notice directly to the OMB desk officer: OMB Human Resources and Housing Branch, Attention: Carolyn Lovett, New Executive Office Building, Room 10235, Washington, DC 20503. Fax Number: (202) 395-6974.

Dated: June 21, 2006.
Michelle Shortt,
Director, Regulations Development Group, Office of Strategic Operations and Regulatory Affairs.

[FR Doc. E6-10274 Filed 6-29-06; 8:45 am]

BILLING CODE 4120-01-P